OFFICE OF PERSONNEL MANAGEMENT

Submission for Review: CyberCorps®: Scholarship For Service (SFS) Registration Web site

AGENCY: Office of Personnel Management.

ACTION: 30-Day Notice and request for comments.

SUMMARY: The Office of Personnel Management (OPM), Human Resources Solutions Division, offers the general public and other Federal agencies the opportunity to comment on an existing information collection request (ICR) 3206-0246, SFS Registration. As required by the Paperwork Reduction Act of 1995, (Pub. L. 104-13, 44 U.S.C. chapter 35) as amended by the Clinger-Cohen Act (Pub. L. 104-106), OPM is soliciting comments for this collection. The information collection was previously published in the Federal Register on May 17, 2013, and no comments were received. The purpose of this notice is to allow an additional 30 days for public comments.

DATES: Comments are encouraged and will be accepted until February 28, 2014. This process is conducted in accordance with 5 CFR 1320.1.

ADDRESSES: Interested persons are invited to submit written comments on the proposed information collection to the Office of Information and Regulatory Affairs, Office of Management and Budget, 725 17th Street NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management and Budget, 725 17th Street NW., Washington, DC 20503, Attention: Desk Officer for the Office of Personnel Management or sent via electronic mail to oira_submission@omb.eop.gov or faxed to (202) 395-6974.

SUPPLEMENTARY INFORMATION: The information collection was previously published in the Federal Register on May 17, 2013 at 78 FR 26664, allowing for a 60-day public comment period. No comments were received. The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and Minimize the burden of the collection of information on those who are to respond, including through the use of appropriate automated, electronic, mechanical, or other technological collection techniques or other forms of information technology, e.g., permitting electronic submissions of responses.

The SFS Program was established by the National Science Foundation (NSF) in accordance with the Federal Cyber Service Training and Education Initiative as described in the President's National Plan for Information Systems Protection. This program seeks to increase the number of qualified students entering the fields of information assurance and computer security in an effort to respond to the threat to the Federal Government's information technology infrastructure. The program provides selected 4-year colleges and universities scholarship grants to attract students to the information assurance field. Participating students who receive scholarships from this program are required to serve a 10-week internship during their studies and complete a post-graduation employment commitment equivalent to the length of the scholarship or one year, whichever is longer. OPM operates this collection of information for NSF under a reimbursable (Economy Act) agreement. Approval of the Web page is necessary to facilitate the timely registration, selection and placement of program-enrolled students in Federal agencies.

Analysis

Agency: CyberCorps®: Scholarship For Service Program, Office of Personnel Management.

Title: Scholarship For Service (SFS) Program Internet Site.

OMB Number: 3206-0246.

Frequency: Annually.

Affected Public: Individuals or Households.

Number of Respondents: 630.

Estimated Time per Respondent: 1 hour.

Total Burden Hours: 630 hours.

Katherine Archuleta,
Director, U.S. Office of Personnel Management.

[FR Doc. 2014-01877 Filed 1-28-14; 8:45 am]

BILLING CODE 6325-43-P